DEPARTMENT OF ENERGY

DOE Response to Recommendation 2019-1 of the Defense Nuclear Facilities Safety Board, Uncontrolled Hazard Scenarios and 10 CFR 830 Implementation at the Pantex Plant

AGENCY: Department of Energy.

ACTION: Notice.

SUMMARY: On February 20, 2019, the Defense Nuclear Facilities Safety Board issued Recommendation 2019-1, Uncontrolled Hazard Scenarios and 10 CFR 830 Implementation at the Pantex Plant, to the Department of Energy. In accordance with the Atomic Energy Act of 1954, the Secretary of Energy's response to the Recommendation is provided in this notice.

DATES: Comments, data, views, or arguments concerning the Secretary's response are due on or before June 12, 2019.

ADDRESSES: Please send to: Defense Nuclear Facilities Safety Board, 625 Indiana Avenue NW, Suite 700, Washington, DC 20004.

FOR FURTHER INFORMATION CONTACT: Mr. Christopher Chaves, Office of the Departmental Representative to the Defense Nuclear Facilities Safety Board, Office of Environment, Health, Safety and Security, U.S. Department of Energy, 1000 Independence Avenue SW, Washington, DC 20585, or telephone number (301) 903-5999, or email Christopher.Chaves@hq.doe.gov.

SUPPLEMENTARY INFORMATION: On February 20, 2019, the Defense Nuclear Facilities Safety Board issued Recommendation 2019-1, Uncontrolled Hazard Scenarios and 10 CFR 830 Implementation at the Pantex Plant, to the Department of Energy. Recommendation 2019-1 was published in the Federal Register on March 19, 2019 (84 FR 10196). In accordance with section 315(c) of the Atomic Energy Act of 1954 (42 U.S.C. 2286d(c)), the Secretary of Energy's response to the Recommendation is printed in full at the conclusion of this notice.

Signed in Washington, DC, on May 6, 2019.
Joe Olencz,
Departmental Representative to the Defense Nuclear Facilities Safety Board, Office of Environment, Health, Safety and Security.

April 16, 2019

The Honorable Bruce Hamilton

Chairman

Defense Nuclear Facilities Safety Board

625 Indiana Avenue, NW, Suite 700

Washington, DC 20004

Dear Chairman Hamilton:

The Department of Energy (DOE) acknowledges receipt of Defense Nuclear Facilities Safety Board (Board) Recommendation 2019-1, Uncontrolled Hazard Scenarios and 10 CFR 830 Implementation at the Pantex Plant, which was published in the Federal Register on March 19, 2019.

The Department shares the Board's view that we should continue to improve the configuration management and implementation of the safety basis for nuclear explosive operations at the Pantex Plant. Processes are in place at the Pantex Plant to ensure all nuclear explosive operations are planned and executed in a manner that protects the environment, the public, and the worker. I accept Recommendation 2019-1, which aligns with improvement actions that the Department of Energy's National Nuclear Security Administration (DOE/NNSA) has already taken as outlined in the DOE/NNSA Administrator's January 28, 2019, response to Draft Recommendation 2018-1, Uncontrolled Hazard Scenarios and 10 CFR 830 Implementation at the Pantex Plant (see enclosure). We look forward to briefing the Board on improvement actions planned and underway.

The Department is committed to the safe operation of its nuclear facilities consistent with the principles of Integrated Safety Management and the Department's nuclear safety requirements. We will continue to prioritize Pantex safety basis efforts and maintain a dialogue with your staff. I have assigned Geoffrey L. Beausoleil, Manager, DOE/NNSA Production Office, to be the Department's responsible manager for this recommendation.

If you have any questions, please contact Mr. Geoffrey L. Beausoleil at (865) 576-0752

Sincerely,

Lisa E. Gordon-Hagerty

Enclosure

ENCLOSURE

Department of Energy's National Nuclear Security Administration's (DOE/NNSA) Administrator January 28, 2019, Response to DNFSB Draft Recommendation 2018-1, Uncontrolled Hazard Scenarios and 10 CFR 830 Implementation at the Pantex Plant.

General Comments

Throughout last year, DOE/NNSA and Consolidated Nuclear Security (CNS), the Pantex Management & Operating Contractor, have taken numerous actions aimed at improving the quality, configuration management, and implementation of the Pantex Plant (Pantex) safety basis. Key actions during this period include the following:

In September 2018, DOE/NNSA approved a Safety Basis Supplement (SBS) by CNS that fulfilled two primary objectives. First, the SBS provides a framework for analyzing and addressing legacy issues in the Pantex safety basis associated with scenarios previously determined not to require application of safety controls because they were evaluated to be “sufficiently unlikely.“ Requirements have been established to assure “sufficiently unlikely“ scenarios are identified and resolved. Second, the SBS included significant improvements in safety protocols through the identification of compensatory measures for preventing events that could result from “Falling Man“ scenarios. CNS has implemented the new “Falling Man“ compensatory measures in all active nuclear explosive cells and bays.

In October 2018, DOE/NNSA initiated a project to identify options for “redesigning“ the Pantex safety basis, with the goal of reducing the complexity of the safety basis activities and documents; simplifying development, review, approval, and maintenance of the documents; and correspondingly improving implementation of the identified safety controls. Members of this project team include representatives from DOE/NNSA, the production plants, the national laboratories, and the Nevada National Security Site. This initiative will take substantial effort to achieve, but is essential for ensuring the long-term success of the Pantex national security mission.

DOE/NNSA approved a comprehensive Corrective Action Plan by CNS that includes numerous actions for improving the Pantex safety basis development process and addressing legacy-improvement opportunities in the current documents. Execution of this plan will drive significant progress in the overall quality of the Pantex safety basis within the next two years. To date, CNS has completed all actions on schedule.

Several elements of the DNFSB's Draft Recommendation arise from inconsistencies between long-standing Pantex practices and DOE guidance documents. Examples include DNFSB concerns related to the structure of the Pantex Unreviewed Safety Question (USQ) procedure, the longevity of some Justifications for Continued Operations, and the frequency within which safety control implementation is re-verified. By definition, the referenced DOE Guides (e.g., DOE Guide 423.1-1B, Implementation Guide for Use in Developing Technical Safety Requirements, and DOE Guide 424.1-1B, Implementation Guide for Use in Addressing Unreviewed Safety Question Requirements) provide supplemental information that DOE/NNSA uses to encourage performance of operations and activities across the complex with a focus on best practices. Similarly, several of the concerns in the DNFSB's Draft Recommendation related to Special Tooling are understood to be suggestions to adopt industry best practices rather than reflecting deficiencies against DOE regulations or requirements. DOE/NNSA identified similar issues with the Special Tooling program as part of our oversight activities. DOE/NNSA will ensure the DNFSB suggestions are evaluated as it continues to develop additional improvement actions, but do not believe the issues result in challenging adequate protection of public health or safety.

Safety Controls Associated With Low-Probability/High-Consequent Events

The DNFSB raised concerns that some scenarios determined to be “sufficiently unlikely“ (i.e., expected to occur between once-in-a-million and once-in-a-billion years) in the applicable Pantex safety basis documents did not have clearly identified safety controls for preventing or mitigating the potentially high consequences (e.g., worker fatality, environmental radiological contamination, or public radiological exposure). DOE/NNSA provides the following perspective regarding these concerns:

As noted in the DNFSB's Draft Recommendation, questions associated with “new information“ related to potential accident scenarios are evaluated via the Pantex Problem Identification and Evaluation process and the requirements in DOE-NA-STD-3016-2018, Hazard Analysis reports for Nuclear Explosive Operations. This process ensures that appropriate operational restrictions or compensatory measures are implemented while resolving any potential safety issues associated with the adequacy of safety controls. During the past year, DOE/NNSA has verified this process has been effectively executed by CNS, and has driven improvements to the process as warranted.

One of the concerns raised by the DNFSB, associated with the adequacy of safety controls for “sufficiently unlikely“ scenarios, was reliance on Key Elements of Safety Management Programs to prevent high-consequences during potential “Falling Man“ scenarios. In September 2018, the DOE/NNSA approved a SBS that identified additional “Falling Man“ controls, which are structured, credited, and protected as Specific Administrative Controls (SACs) rather than programmatic Key Elements. As noted above, CNS implemented these “Falling Man“ SACs in all active nuclear explosive cells and bays.

Other than the control adequacy issues discussed above, the remaining control adequacy concerns generally relate to weaknesses in the safety basis documentation. The two most common examples are (a) controls that are already implemented in the field but are not specifically linked to and credited for scenarios in the safety basis that were dispositioned as “sufficiently unlikely“ and (b) scenarios that were inappropriately deemed as “sufficiently unlikely“ in the safety basis where, lacking sufficient technical bases, they are not credible (e.g., the scenario would require deliberate or malicious procedural violations).

The aforementioned SBS provides a framework for evaluating and categorizing these documentation-related issues. CNS developed a Corrective Action Plan that DOE/NNSA approved in November 2018 that includes commitments to perform extent-of-condition reviews of all Pantex safety basis documents by the end of 2019, with the objective of identifying and correcting all instances of these documentation-related issues. To date, CNS has executed on schedule the actions captured in this Corrective Action Plan.

Configuration Management of the Pantex Safety Basis

The DNFSB raised concerns related to the processes used to maintain configuration management of the Pantex safety basis. Specifically, the DNFSB expressed concern that: (a) updates to Pantex safety basis documents are not always completed on an annual basis; (b) the Pantex USQ procedure allows discrepant-as-found conditions to be corrected without suspending impacted operations or making necessary notifications; and (c) some Justifications for Continued Operations (JCOs) are extended beyond a year. DOE/NNSA provides the following perspectives regarding these concerns:

The DNFSB's concern related to the timeliness of updating safety basis documents appears to be based on data collected during 2017. The vast majority of Pantex safety basis documents were updated on-time in 2018, the lone exception being the update associated with the Site-wide Safety Analysis Report. CNS is committed to updating this document by March 2019. The aforementioned Corrective Action Plan, approved by DOE/NNSA in November 2018, includes actions to revise the administrative procedures for developing and revising Pantex safety basis documents. These actions specifically identify improving configuration management of safety basis documents as an objective, which, when executed effectively, should preclude similar issues from occurring in the future.

The DNFSB's Draft Recommendation states that “the Pantex USQ procedures allow three days to correct discrepant-as-found conditions... without stopping operations, notifying DOE, or initiating the Pantex process for addressing a potential inadequacy of the safety analysis.“ While the Pantex USQ procedure does allow three days to correct a discrepant-as-found condition prior to declaring a Potential Inadequacy of the Safety Analysis, and given that 10 CFR 830 Subpart B does not have rules for specific numeric durations (other than “as appropriate”) Pantex procedures require: (a) suspending operations whenever a safety question is raised (e.g., discovery of discrepant-as-found conditions); (b) making appropriate notifications to the DOE/NNSA Production Office (NPO); and (c) initiating the DOE-Approved Pantex USQ process. Therefore, we believe the proper safety control is in place.

The DNFSB's Draft Recommendation includes a concern with the processes for handling JCOs and the extension of some for an extended period of time. The goal in the Pantex USQ procedure of addressing JCOs in less than a year is derived from guidance in DOE Guide 424.1-1B. The intent is to ensure JCOs and their compensatory measures are used to address temporary changes to the safety basis until permanent solutions can be identified and incorporated. While one year is a viable goal for limiting use of a JCO, it is not always practical to resolve issues in nuclear or nuclear explosive operations in that time frame. Many of the issues identified in JCOs involve complex operations or hazard scenarios where a permanent solution cannot be developed without extensive analysis or physical changes to facilities, systems, or equipment. Several JCO extensions were to allow additional time to develop permanent solutions, instead of incorporating compensatory measures into the safety basis only to revise the documents again once the permanent solution was developed. Each extension was approved by the Safety Basis Approval Authority after NPO fully evaluated the JCO conditions and compensatory measures, and concluded operations could be continued safely with implementation of the JCO compensatory measures.

Special Tooling Program

The DNFSB expressed concerns that deficiencies exist within the Pantex Special Tooling Program. Examples of the identified deficiencies include: (a) inconsistencies between Pantex tooling procedures and site practices; (b) additional Non-Destructive Evaluation techniques being used to inspect welds on tooling; (c) reliance on worker knowledge and skill-of-the-craft during tooling inspection, maintenance, and testing activities; ( d) tool-specific performance criteria not being listed in the Pantex safety basis; and ( e) weaknesses in analysis and testing for mechanical impact scenarios involving tooling. DOE/NNSA provides the following perspectives regarding these concerns:

Subsequent to the DNFSB's September 2017 review, tooling-specific deviations from Pantex procedures were reviewed and confirmed that continued use of the subject tools meets applicable requirements. Additional corrective actions have been taken to prevent recurrence of the inconsistencies.

Subsequent to the DNFSB's September 2017 review, CNS engaged an outside expert to review the Pantex welding program, who concluded that Pantex processes meet expectations. That is, welds are performed and inspected by qualified welders in accordance with applicable industry standards.

Pantex tools are maintained and tested by trained and qualified journeymen mechanics in accordance with programmatic and tool-specific requirements.

[FR Doc. 2019-09782 Filed 5-10-19; 8:45 am]

BILLING CODE 6450-01-P